POSTAL REGULATORY COMMISSION

Notice Initiating Docket(s) for Recent Postal Service Competitive Negotiated Service Agreement Filings

DATES: (Issued November 6, 2024)

| Docket No.
Competitive Product Prices: | CP2020-234
Global Reseller Expedited Package Contract 2 (MC2013-51)
Negotiated Service Agreements
Competitive Product Prices: | MC2025-278
Priority Mail Express, Priority Mail & USPS Ground Advantage Contracts
Priority Mail Express, Priority Mail & USPS Ground Advantage Contract 630
Competitive Product Prices: | K2025-276
Priority Mail Express, Priority Mail & USPS Ground Advantage Contract 630 (MC2025-278)
Negotiated Service Agreements
Competitive Product Prices: | MC2025-279
Priority Mail Express, Priority Mail & USPS Ground Advantage Contracts
Priority Mail Express, Priority Mail & USPS Ground Advantage Contract 631
Competitive Product Prices: | K2025-277
Priority Mail Express, Priority Mail & USPS Ground Advantage Contract 631 (MC2025-279)
Negotiated Service Agreements
Competitive Product Prices: | MC2025-280
Priority Mail Express, Priority Mail & USPS Ground Advantage Contracts
Priority Mail Express, Priority Mail & USPS Ground Advantage Contract 632
Competitive Product Prices: | K2025-278
Priority Mail Express, Priority Mail & USPS Ground Advantage Contract 632 (MC2025-280)
Negotiated Service Agreements
Competitive Product Prices: | MC2025-281
Priority Mail Express, Priority Mail & USPS Ground Advantage Contracts
Priority Mail Express, Priority Mail & USPS Ground Advantage Contract 633
Competitive Product Prices: | K2025-279
Priority Mail Express, Priority Mail & USPS Ground Advantage Contract 633 (MC2025-281)
Negotiated Service Agreements
Competitive Product Prices: | MC2025-282
Priority Mail Express, Priority Mail & USPS Ground Advantage Contracts
Priority Mail Express, Priority Mail & USPS Ground Advantage Contract 634
Competitive Product Prices: | K2025-280
Priority Mail Express, Priority Mail & USPS Ground Advantage Contract 634 (MC2025-282)
Negotiated Service Agreements
Competitive Product Prices: | MC2025-283
Priority Mail Express, Priority Mail & USPS Ground Advantage Contracts
Priority Mail Express, Priority Mail & USPS Ground Advantage Contract 635
Competitive Product Prices: | K2025-281
Priority Mail Express, Priority Mail & USPS Ground Advantage Contract 635 (MC2025-283)
Negotiated Service Agreements
Competitive Product Prices: | MC2025-284
Priority Mail Express, Priority Mail & USPS Ground Advantage Contracts
Priority Mail Express, Priority Mail & USPS Ground Advantage Contract 636
Competitive Product Prices: | K2025-282
Priority Mail Express, Priority Mail & USPS Ground Advantage Contract 636 (MC2025-284)
Negotiated Service Agreements
Competitive Product Prices: | MC2025-285
Priority Mail & USPS Ground Advantage Contracts
Priority Mail & USPS Ground Advantage Contract 432
Competitive Product Prices: | K2025-283
Priority Mail & USPS Ground Advantage Contract 432 (MC2025-285)
Negotiated Service Agreements
Competitive Product Prices: | MC2025-286
Priority Mail Express, Priority Mail & USPS Ground Advantage Contracts
Priority Mail Express, Priority Mail & USPS Ground Advantage Contract 637
Competitive Product Prices: | K2025-284
Priority Mail Express, Priority Mail & USPS Ground Advantage Contract 637 (MC2025-286)
Negotiated Service Agreements
Competitive Product Prices: | MC2025-287
Priority Mail Express, Priority Mail & USPS Ground Advantage Contracts
Priority Mail Express, Priority Mail & USPS Ground Advantage Contract 638
Competitive Product Prices: | K2025-285
Priority Mail Express, Priority Mail & USPS Ground Advantage Contract 638 (MC2025-287)
Negotiated Service Agreements
Competitive Product Prices: | MC2025-288
Priority Mail Express International, Priority Mail International & First-Class Package International Service Contracts
Priority Mail Express International, Priority Mail International & First-Class Package International Service Contract 50
Competitive Product Prices: | K2025-286
Priority Mail Express International, Priority Mail International & First-Class Package International Service Contract 50 (MC2025-288)
Negotiated Service Agreements
Competitive Product Prices: | MC2025-289
Priority Mail & USPS Ground Advantage Contracts
Priority Mail & USPS Ground Advantage Contract 433
Competitive Product Prices: | K2025-287
Priority Mail & USPS Ground Advantage Contract 433 (MC2025-289)
Negotiated Service Agreements
Competitive Product Prices: | MC2025-290
Priority Mail Express, Priority Mail & USPS Ground Advantage Contracts
Priority Mail Express, Priority Mail & USPS Ground Advantage Contract 639
Competitive Product Prices: | K2025-288
Priority Mail Express, Priority Mail & USPS Ground Advantage Contract 639 (MC2025-290)
Negotiated Service Agreements
Competitive Product Prices: | MC2025-291
Priority Mail Express, Priority Mail & USPS Ground Advantage Contracts
Priority Mail Express, Priority Mail & USPS Ground Advantage Contract 640
Competitive Product Prices: | K2025-289
Priority Mail Express, Priority Mail & USPS Ground Advantage Contract 640 (MC2025-291)
Negotiated Service Agreements
Competitive Product Prices: | MC2025-292
Priority Mail Express, Priority Mail & USPS Ground Advantage Contracts
Priority Mail Express, Priority Mail & USPS Ground Advantage Contract 641
Competitive Product Prices: | K2025-290
Priority Mail Express, Priority Mail & USPS Ground Advantage Contract 641 (MC2025-292)
Negotiated Service Agreements

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2020-234; Filing Title: Request of the United States Postal Service Concerning Modification Four to Global Reseller Expedited Package 2 Negotiated Service Agreement, Which Includes an Extension of that Agreement; Filing Acceptance Date: November 5, 2024; Filing Authority: 39 CFR 3035.105, 39 CFR 3041.505, and 39 CFR 3041.515; Public Representative: Katalin Clendenin; Comments Due: November 14, 2024.

2. Docket No(s).: MC2025-278 and K2025-276; Filing Title: USPS Request to Add Priority Mail Express, Priority Mail & USPS Ground Advantage Contract 630 to the Competitive Product List and Notice of Filing Materials Under Seal; Filing Acceptance Date: November 5, 2024; Filing Authority: 39 U.S.C. 3642, 39 CFR 3035.105, and 39 CFR 3041.310; Public Representative: Almaroof Agoro; Comments Due: November 14, 2024.

3. Docket No(s).: MC2025-279 and K2025-277; Filing Title: USPS Request to Add Priority Mail Express, Priority Mail & USPS Ground Advantage Contract 631 to the Competitive Product List and Notice of Filing Materials Under Seal; Filing Acceptance Date: November 5, 2024; Filing Authority: 39 U.S.C. 3642, 39 CFR 3035.105, and 39 CFR 3041.310; Public Representative: Gregory Stanton; Comments Due: November 14, 2024.

4. Docket No(s).: MC2025-280 and K2025-278; Filing Title: USPS Request to Add Priority Mail Express, Priority Mail & USPS Ground Advantage Contract 632 to the Competitive Product List and Notice of Filing Materials Under Seal; Filing Acceptance Date: November 5, 2024; Filing Authority: 39 U.S.C. 3642, 39 CFR 3035.105, and 39 CFR 3041.310; Public Representative: Jana Slovinska; Comments Due: November 14, 2024.

5. Docket No(s).: MC2025-281 and K2025-279; Filing Title: USPS Request to Add Priority Mail Express, Priority Mail & USPS Ground Advantage Contract 633 to the Competitive Product List and Notice of Filing Materials Under Seal; Filing Acceptance Date: November 5, 2024; Filing Authority: 39 U.S.C. 3642, 39 CFR 3035.105, and 39 CFR 3041.310; Public Representative: Gregory Stanton; Comments Due: November 14, 2024.

6. Docket No(s).: MC2025-282 and K2025-280; Filing Title: USPS Request to Add Priority Mail Express, Priority Mail & USPS Ground Advantage Contract 634 to the Competitive Product List and Notice of Filing Materials Under Seal; Filing Acceptance Date: November 5, 2024; Filing Authority: 39 U.S.C. 3642, 39 CFR 3035.105, and 39 CFR 3041.310; Public Representative: Gregory Stanton; Comments Due: November 14, 2024.

7. Docket No(s).: MC2025-283 and K2025-281; Filing Title: USPS Request to Add Priority Mail Express, Priority Mail & USPS Ground Advantage Contract 635 to the Competitive Product List and Notice of Filing Materials Under Seal; Filing Acceptance Date: November 5, 2024; Filing Authority: 39 U.S.C. 3642, 39 CFR 3035.105, and 39 CFR 3041.310; Public Representative: Jennaca Upperman; Comments Due: November 14, 2024.

8. Docket No(s).: MC2025-284 and K2025-282; Filing Title: USPS Request to Add Priority Mail Express, Priority Mail & USPS Ground Advantage Contract 636 to the Competitive Product List and Notice of Filing Materials Under Seal; Filing Acceptance Date: November 5, 2024; Filing Authority: 39 U.S.C. 3642, 39 CFR 3035.105, and 39 CFR 3041.310; Public Representative: Jennaca Upperman; Comments Due: November 14, 2024.

9. Docket No(s).: MC2025-285 and K2025-283; Filing Title: USPS Request to Add Priority Mail & USPS Ground Advantage Contract 432 to the Competitive Product List and Notice of Filing Materials Under Seal; Filing Acceptance Date: November 5, 2024; Filing Authority: 39 U.S.C. 3642, 39 CFR 3035.105, and 39 CFR 3041.310; Public Representative: Kenneth Moeller; Comments Due: November 14, 2024.

10. Docket No(s).: MC2025-286 and K2025-284; Filing Title: USPS Request to Add Priority Mail Express, Priority Mail & USPS Ground Advantage Contract 637 to the Competitive Product List and Notice of Filing Materials Under Seal; Filing Acceptance Date: November 5, 2024; Filing Authority: 39 U.S.C. 3642, 39 CFR 3035.105, and 39 CFR 3041.310; Public Representative: Jana Slovinska; Comments Due: November 14, 2024.

11. Docket No(s).: MC2025-287 and K2025-285; Filing Title: USPS Request to Add Priority Mail Express, Priority Mail & USPS Ground Advantage Contract 638 to the Competitive Product List and Notice of Filing Materials Under Seal; Filing Acceptance Date: November 5, 2024; Filing Authority: 39 U.S.C. 3642, 39 CFR 3035.105, and 39 CFR 3041.310; Public Representative: Elsie Lee-Robbins; Comments Due: November 14, 2024.

12. Docket No(s).: MC2025-288 and K2025-286; Filing Title: USPS Request to Add Priority Mail Express International, Priority Mail International & First-Class Package International Service Contract 50 to the Competitive Product List and Notice of Filing Materials Under Seal; Filing Acceptance Date: November 5, 2024; Filing Authority: 39 U.S.C. 3642, 39 CFR 3035.105, and 39 CFR 3041.310; Public Representative: Katalin Clendenin; Comments Due: November 14, 2024.

13. Docket No(s).: MC2025-289 and K2025-287; Filing Title: USPS Request to Add Priority Mail & USPS Ground Advantage Contract 433 to the Competitive Product List and Notice of Filing Materials Under Seal; Filing Acceptance Date: November 5, 2024; Filing Authority: 39 U.S.C. 3642, 39 CFR 3035.105, and 39 CFR 3041.310; Public Representative: Christopher Mohr; Comments Due: November 14, 2024.

14. Docket No(s).: MC2025-290 and K2025-288; Filing Title: USPS Request to Add Priority Mail Express, Priority Mail & USPS Ground Advantage Contract 639 to the Competitive Product List and Notice of Filing Materials Under Seal; Filing Acceptance Date: November 5, 2024; Filing Authority: 39 U.S.C. 3642, 39 CFR 3035.105, and 39 CFR 3041.310; Public Representative: Almaroof Agoro; Comments Due: November 14, 2024.

15. Docket No(s).: MC2025-291 and K2025-289; Filing Title: USPS Request to Add Priority Mail Express, Priority Mail & USPS Ground Advantage Contract 640 to the Competitive Product List and Notice of Filing Materials Under Seal; Filing Acceptance Date: November 5, 2024; Filing Authority: 39 U.S.C. 3642, 39 CFR 3035.105, and 39 CFR 3041.310; Public Representative: Almaroof Agoro; Comments Due: November 14, 2024.

16. Docket No(s).: MC2025-292 and K2025-290; Filing Title: USPS Request to Add Priority Mail Express, Priority Mail & USPS Ground Advantage Contract 641 to the Competitive Product List and Notice of Filing Materials Under Seal; Filing Acceptance Date: November 5, 2024; Filing Authority: 39 U.S.C. 3642, 39 CFR 3035.105, and 39 CFR 3041.310; Public Representative: Elsie Lee-Robbins; Comments Due: November 14, 2024.

III. Summary Proceeding(s)

None. See Section II for public proceedings.

This Notice will be published in the Federal Register.

Media Inquiries: Gail Adams, gail.adams@prc.gov.

Erica A. Barker,
Secretary.

[FR Doc. 2024-26132 Filed 11-8-24; 8:45 am]

BILLING CODE P